DEPARTMENT OF LABOR

Employment and Training Administration

[TA-W-56,169]

JDS Uniphase Corporation, FBN New Jersey Holdings Corporation, Ewing, NJ; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance and Alternative Trade Adjustment Assistance on February 10, 2005, applicable to workers of JDS Uniphase Corporation, Ewing, New Jersey. The notice was published in the Federal Register on March 9, 2005 (70 FR 11704).

At the request of the State agency, the Department reviewed the certification for workers of the subject firm. The workers were engaged in the production of optical receivers, amplifiers and CATV products for the telecommunications and communications industry.

New information shows that the New Jersey manufacturing operations of JDS Uniphase Corporation were sold to FBN New Jersey Holdings Corporation in May 2005. Workers separated from employment at the subject firm had their wages reported under a separate unemployment insurance (UI) tax accounts for FBN New Jersey Holdings Corporation.

Accordingly, the Department is amending the certification to properly reflect this matter.

The intent of the Department's certification is to include all workers of JDS Uniphase Corporation, Ewing, New Jersey who were adversely affected by increased imports.

The amended notice applicable to TA-W-56,169 is hereby issued as follows:

“All workers of JDS Uniphase Corporation, FBN New Jersey Holdings Corporation, Ewing, New Jersey who became totally or partially separated from employment on or after December 6, 2003, through February 10, 2007, are eligible to apply for adjustment assistance under Section 223 of the Trade Act of 1974, and are also eligible to apply for alternative trade adjustment assistance under Section 246 of the Trade Act of 1974.”

Signed at Washington, DC, this 10th day of June, 2005.
Linda G. Poole,
Certifying Officer, Division of Trade Adjustment Assistance.

[FR Doc. E5-3228 Filed 6-21-05; 8:45 am]

BILLING CODE 4510-30-P